DEPARTMENT OF ENERGY

Federal Energy Regulatory Commission

[Docket No. ER02-79-002, et al.]

Southern California Edison Company, et al.; Electric Rate and Corporate Regulation Filings

April 24, 2002.

The following filings have been made with the Commission. The filings are listed in ascending order within each docket classification.

1. Southern California Edison Company

[Docket No. ER02-79-002]

Take notice that on April 17, 2002, Southern California Edison Company (SCE) submitted for filing with the Federal Energy Regulatory Commission (Commission) a compliance filing regarding letter agreements between SCE and Energy Unlimited, Inc (Energy Unlimited), Pegasus Power Partners, LLC (Pegasus) and High Desert Power Project, LLC (High Desert).

The purpose of this filing is to comply with the Commission's March 18, 2002 Order in Docket No. ER02-79-001, Southern California Edison Company, 98 FERC ¶ 61,304 (2002), Granting Request for Rehearing in Part and Denying Rehearing in Part.

Copies of this filing were served upon Public Utilities Commission of the State of California, Energy Unlimited, Pegasus, and High Desert.

Comment Date: May 8, 2002.

2. Duke Energy Sandersville, LLC

[Docket No. ER02-1024-002]

Take notice that on April 17, 2002, Duke Energy Sandersville, LLC filed a notice of status change with the Federal Energy Regulatory Commission (Commission) in connection with the Commission's Order authorizing a change in upstream control of Engage Energy America LLC and Frederickson Power L.P. resulting from a transaction involving Duke Energy Corporation and Westcoast Energy Inc. (Engage Energy America, LLC, Frederickson Power L.P., Duke Energy Corp., 98 FERC ¶ 61,207 (2002)).

Copies of the filing were served upon all parties on the official service list compiled by the Secretary of the Federal Energy Regulatory Commission in this proceeding.

Comment Date: May 8, 2002.

3. Tucson Electric Power Company

[Docket No. ER02-1349-001]

Take notice that on April 17, 2002, Tucson Electric Power Company tendered for filing a Network Operating Agreement between Tucson Electric Power Company and the Navajo Tribal Utility Authority as Supplement No. 1 to the Amended Service Agreement for Network Integration Transmission Service filed on March 20, 2002.

Comment Date: May 8, 2002.

4. Central Illinois Light Company

[Docket No. ER02-1432-001]

Take notice that on April 18, 2002, Central Illinois Light Company (CILCO), filed a substitute executed Interconnection Agreement with Corn Belt Energy Corporation.

Copies of the filing were served on the affected customer and the Illinois Commerce Commission.

Comment Date: May 9, 2002.

5. Central Illinois Light Company

[Docket No. ER02-1447-001]

Take notice that on April 18, 2002, Central Illinois Light Company (CILCO) filed a Substitute Interconnection Agreement with the Village of Riverton.

Copies of the filing were served on the affected customer and the Illinois Commerce Commission.

Comment Date: May 9, 2002.

6. Mohawk River Funding IV, L.L.C.

[Docket No. ER02-1582-000]

Take notice that on April 17, 2002, Mohawk River Funding IV, L.L.C. submitted a Notice of Succession pursuant to 18 CFR 35.16 and 131.51 of the Federal Energy Regulatory Commission's (Commission) regulations. Poquonock River Funding, L.L.C. has changed its name to Mohawk River Funding IV, L.L.C. and effective March 18, 2002 succeeded to Poquonock's Rate Schedule FERC No. 1, Market-Based Rate Schedule filed in Docket No. ER01-2799-000, which was effective September 13, 2001.

Comment Date: May 8, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-10740 Filed 4-30-02; 8:45 am]

BILLING CODE 6717-01-P